DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. chapter 35).

Agency: United States Patent and Trademark Office (USPTO).

Title: Practitioner Records Maintenance, Disclosure, and Discipline Before the United States Patent and Trademark Office (USPTO).

Form Number(s): None.

Agency Approval Number: 0651-0017.

Type of Request: Extension of a currently approved collection.

Burden: 12,330 hours annually.

Number of Respondents: 635 responses per year.

Avg. Hours per Response: The USPTO estimates that it will take the public between 2 and 40 hours, depending upon the complexity of the situation, to gather the necessary information, prepare, and submit the requirements in this collection.

Needs and Uses: This information is required by 35 U.S.C. 2, 32 and 33 and administered by the USPTO through 37 CFR 10.20-10.112 and 37 CFR 11.19-11.61. The information is used by the Director of the Office of Enrollment and Discipline (OED) to investigate and, where appropriate, prosecute for violations of the USPTO Code of Professional Responsibility. Registered practitioners are mandated to maintain proper documentation so that they can fully cooperate with an investigation in the event of a report of an alleged violation. There are no forms associated with this collection of information.

Affected Public: Individuals or households; businesses or other for-profits; not-for-profit institutions.

Frequency: On occasion.

Respondent's Obligation: Required to obtain or retain benefits.

OMB Desk Officer: Nicholas A. Fraser, e-mail: Nicholas_A_Fraser@omb.eop.gov.

Once submitted, the request will be publicly available in electronic format through the Information Collection Review page at http://www.reginfo.gov.

Paper copies can be obtained by:

• E-mail: InformationCollection@uspto.gov. Include “0651-0017 copy request” in the subject line of the message.

• Fax: 571-273-0112, marked to the attention of Susan K. Fawcett.

• Mail: Susan K. Fawcett, Records Officer, Office of the Chief Information Officer, United States Patent and Trademark Office, P.O. Box 1450, Alexandria, VA 22313-1450.

Written comments and recommendations for the proposed information collection should be sent on or before September 3, 2010 to Nicholas A. Fraser, OMB Desk Officer, via e-mail to Nicholas_A_Fraser@omb.eop.gov or by fax to 202-395-5167, marked to the attention of Nicholas A. Fraser.

Susan K. Fawcett,
Records Officer, USPTO, Office of the Chief Information Officer.

[FR Doc. 2010-19103 Filed 8-3-10; 8:45 am]

BILLING CODE 3510-16-P